EXPORT-IMPORT BANK OF THE UNITED STATES

[Public Notice: EIB-2020-0007]

Proposal To Adopt the 2010 Small Business Jobs Act Interim Rule as an Alternative Size Standard for Defining a Small Business for Export-Import Bank Programs

AGENCY: Export-Import Bank of the United States.

ACTION: Final notice; notification of Small Business Administration approval.

SUMMARY: This document announces that the U.S. Small Business Administration (SBA) has approved the request by the Export-Import Bank of the United States (EXIM Bank) to adopt the Interim Rule (as defined below) set forth in Section 1116 of the Small Business Jobs Act of 2010 (the Jobs Act) as an alternative size standard for defining a small business concern for all of EXIM Bank's programs. The Jobs Act mandated that until the SBA establishes a permanent tangible net worth and net income based alternative size standard, SBA shall use the following alternative size standard for applicants for business loans Section 7(a) of the Small Business Act (7(a) Loan Program) and applicants for development company loans under Title V of the Small Business Investment Act of 1958 (504 Loan Program) in addition to the use of industry based size standards: Not more than $15 million in tangible net worth and not more than $5 million in average net income after Federal income taxes (Interim Rule). The SBA currently uses the Interim Rule for its 7(a) and 504 Loan Programs to determine size eligibility for an applicant if such applicant does not meet the size standards that it has established for individual industries as defined under the North American Industry Classification System (NAICS). The SBA's approval of EXIM Bank's proposal permits EXIM Bank to use the Interim Rule as an alternative size standard for identifying small business concerns participating in all EXIM Bank programs as follows: First by using the industry based size standards and then by applying the Interim Rule, if such participant does not qualify as a small business concern under the industry based size standards.

DATES: This announcement is made as of August 28, 2020.

FOR FURTHER INFORMATION CONTACT: James Burrows, Senior Vice President, Office of Small Business, Export-Import Bank of the United States, at james.burrows@exim.gov or 202-565-3801.

SUPPLEMENTARY INFORMATION: 1. Pursuant to SBA's regulations, specifically 13 CFR 121.901-.904, EXIM Bank consulted with the SBA regarding the proposal to adopt the Interim Rule to define a small business concern for purposes of EXIM Bank programs. On November 22, 2016, EXIM Bank published a notice and requested for comments regarding the proposal in the Federal Register (81 FR 83836). EXIM Bank did not receive any comments.

2. By letter dated August 21, 2020, the SBA Administrator approved EXIM Bank's request to adopt the Interim Rule as an alternative size standard in addition to the use of industry-based size standards subject to republication of such standard in the Federal Register.

3. EXIM Bank will apply the Interim Rule as an alternative size standard in addition to using size standards established by SBA for individual industries to determine whether or not participants of EXIM Bank programs can be categorized as small business concerns.

Joyce B. Stone,
Assistant Corporate Secretary.

[FR Doc. 2020-18981 Filed 8-27-20; 8:45 am]

BILLING CODE 6690-01-P